NATIONAL AERONAUTICS AND SPACE ADMINISTRATION

[Notice (15-012)]

Privacy Act of 1974; Privacy Act System of Records

AGENCY: National Aeronautics and Space Administration, NASA.

ACTION: Notice of proposed revisions to existing Privacy Act systems of records.

SUMMARY: Pursuant to the provisions of the Privacy Act of 1974 (5 U.S.C. 552a), the National Aeronautics and Space Administration is issuing public notice of its proposal to significantly alter a previously noticed system of records NASA Education System Records/NASA 10EDUA. This notice further clarifies and somewhat broadens this system of records under a new system name and number, as set forth below under the caption SUPPLEMENTARY INFORMATION.

DATES: Submit comments within 30 calendar days from the date of this publication. The changes will take effect at the end of that period, if no adverse comments are received.

ADDRESSES: Patti F. Stockman, Privacy Act Officer, Office of the Chief Information Officer, National Aeronautics and Space Administration Headquarters, Washington, DC 20546-0001, (202) 358-4787, NASA-PAOfficer@nasa.gov.

FOR FURTHER INFORMATION CONTACT: NASA Privacy Act Officer, Patti F. Stockman, (202) 358-4787, NASA-PAOfficer@nasa.gov.

SUPPLEMENTARY INFORMATION: This system notice includes both minor and substantial revisions. The location of records is expanded to include NASA partner locations. Both the categories of individuals and of records in the system are expanded for greater clarity. Routine uses have been refined to be more specific and eliminate duplication with NASA's Standard Routine Uses. System policies for records storage have been expanded to include paper as well as electronic storage, and the retention and disposal procedures have been updated to reflect the applicable retention schedule.

This revision significantly expands safeguards to provide a more thorough description of electronic safeguards employed and also addresses safeguards required of NASA partners managing records in this system of records.

The system manager information is updated and record source categories clarified. For completion, the notice includes the fact that there are no exemptions claimed for the system.

Larry N. Sweet,
NASA Chief Information Officer.

NASA 10EDUA—NASA Education Records

SYSTEM NUMBER:

NASA 10EDUA.

SYSTEM NAME:

NASA Education Records.

SECURITY CLASSIFICATION:

None.

SYSTEM LOCATION:

Paper-based records are located in NASA facilities in Locations 1 through 11 as set forth in Appendix A, or at other Agency-designated offices of NASA contractors. Electronic records are maintained on secure NASA and NASA contractor servers in Locations 1 through 11, or at other Agency-designated offices of NASA contractors.

CATEGORIES OF INDIVIDUALS COVERED BY THE SYSTEM:

This system maintains information on individuals engaged in the management, planning, implementation, and/or evaluation of NASA Education programs/projects, including former and current NASA civil servants, contractors, grantees, and partners serving as NASA Education program/project managers, primary investigators, project points of contact and volunteers, and session presenters. Information is also maintained on members of the public who apply to, participate in, and/or are supported by NASA Education programs, projects and activities, including students (K-12 and higher education), teachers, higher education faculty, advisors, school administrators, and participants' parents/legal guardians.

CATEGORIES OF RECORDS IN THE SYSTEM:

Records in the system contain identifying information about individuals engaged in NASA Education endeavors. Records include individuals' names, mailing addresses, school/institution names and addresses, grades, levels or higher education degree information, contact information, demographic data (e.g. ethnicity, gender, race, citizenship, military status), birth dates, employment status, disabilities, medical and special needs notes, academic records, photographic identifiers, status, and response or feedback to a NASA program/project/activity.

AUTHORITY FOR MAINTENANCE OF THE SYSTEM:

51 U.S.C. 20113.

ROUTINE USES OF RECORDS MAINTAINED IN THE SYSTEM, INCLUDING CATEGORIES OF USERS AND THE PURPOSES OF SUCH USES:

Any disclosures of information will be compatible with the purpose for which the Agency collected the information. The records and information in these records may be disclosed: (1) To an individual's next-of-kin, parent, guardian, or emergency contact in the event of a mishap involving that individual; (2) To the public about an individual's involvement with NASA Education with the written consent of that individual; or (3) In accordance with NASA standard routine uses as set forth in Appendix B.

POLICIES AND PRACTICES FOR STORING, RETRIEVING, ACCESSING, RETAINING, AND DISPOSING OF RECORDS IN THE SYSTEM

STORAGE:

Some of the records are stored electronically on secure servers; some are stored in paper format in file folders.

RETRIEVABILITY:

Records may be retrieved from the system by any one or a combination of choices by authorized users to include last name, identification number, zip code, state, grade, level, and institution.

SAFEGUARDS:

Electronic records are maintained on secure NASA servers and protected in accordance with all Federal standards and those established in NASA regulations at 14 CFR 1212.605. Additionally, server and data management environments employ infrastructure encryption technologies both in data transmission and at rest on servers. Approved security plans are in place for information systems containing the records in accordance with the Federal Information Security Management Act of 2002 (FISMA) and OMB Circular A-130, Management of Federal Information Resources. Only authorized personnel requiring information in the official discharge of their duties are authorized access to records through approved access or authentication methods. Access to electronic records is achieved only from workstations within the NASA Intranet or via a secure Virtual Private Network (VPN) connection that requires two-factor hardware token authentication. Non-electronic records are secured in locked rooms or locked file cabinets. For information systems maintained by NASA partners, who collect, store and process records on behalf of NASA, NASA requires documentation and verification of commensurate safeguards in accordance with FISMA, NASA Procedural Requirements (NPR) 2810.1A, and NASA ITS-HBK-2810.02-05.

RETENTION AND DISPOSAL:

Records are maintained and destroyed in accordance with NASA Records Retention Schedules (NRRS), Schedule 1, Item 68.

SYSTEM MANAGER AND ADDRESS:

Evaluation Manager, NASA Office of Education, Location 1 (see Appendix A).

NOTIFICATION PROCEDURE:

Contact System Manager by mail at Location 1 (see Appendix A).

RECORD ACCESS PROCEDURES:

Individuals who wish to gain access to their records should submit their request in writing to the System Manager at the addresses given above.

CONTESTING RECORD PROCEDURES:

The NASA regulations governing access to records, procedures for contesting the contents and for appealing initial determinations are set forth in 14 CFR part 1212.

RECORD SOURCE CATEGORIES:

The information is obtained directly from individuals on whom it is maintained, and/or from their parents/legal guardians and individuals who serve as recommenders.

EXEMPTIONS CLAIMED FOR THE SYSTEM:

None.

[FR Doc. 2015-06065 Filed 3-16-15; 8:45 am]

BILLING CODE 7510-13-P